DEPARTMENT OF HEALTH AND HUMAN SERVICES

Centers for Disease Control and Prevention

[60Day-01-27]

Proposed Data Collections Submitted for Public Comment and Recommendations

In compliance with the requirement of section 3506(c)(2)(A) of the Paperwork Reduction Act of 1995 for opportunity for public comment on proposed data collection projects, the Centers for Disease control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

An Assessment of the Feasibility and Need for Support of Cervical Cancer Screening Services in Publicly Funded Sexually Transmitted Disease (STD) Clinics—New—National Center for Chronic Disease Prevention and Health Promotion (NCCDPHP), Centers for Disease Control Prevention (CDC).

The National Center for Chronic Disease Prevention and Health Promotion, Division of Cancer Prevention and Control (DCPC) in collaboration with the National Center for HIV, STD, and TB Prevention, Division of STD Prevention proposes to evaluate the need for and suitability of delivering cervical cancer screening services to women receiving health care in public STD clinics. STD clinics provide health services to a population of women considered to be at high risk for human papillomavirus (HPV) infection. Certain HPV types cause abnormal Pap smears and are etiologically linked to cervical cancer. Many women who seek medical attention from STD clinics have limited access to other sources of health care. Moreover, there is limited published information about the cervical cancer screening behaviors or magnitude of cervical dysplasia in this at-risk population. CDC is conducting this project in response to a Congressional mandate encouraging the exploration of alternative strategies and methods to increase access to cervical cancer screening services among medically underserved women.

To determine if STD clinics are an appropriate venue to identify women in need of cervical cancer screening services, DCPC will recruit and enroll a projected sample of 22,680 women attendees of eight publicly funded clinics. Four of the participating clinics will offer cervical cancer screening services and four will not provide these services. To estimate the need for cervical cancer screening among STD clinic attendees, women who meet the project enrollment criteria at all participating clinics will be asked to participate in a brief interview regarding their recent cervical cancer screening history and their need for screening.

For women attending publicly funded STD clinics offering cervical cancer screening services, data will be collected on the results of the screening examination, results of the diagnostic assessments of abnormal screening tests, and the costs associated with cervical cancer screening and follow-up. For women attending clinics not offering cervical cancer screening, attendees determined to be in need of screening will be referred to local providers offering these services.

A sub-study, verifying attendees reports of recent cervical screening services will be conducted on a sample of clinic attendees. Official Pap smear reports will be collected for those women who indicate a Pap smear was performed during the preceding 12 months. Clinic staff and health care provider activities will involve interviewing attendees, determining attendees eligibility status, and verifying Pap test results. The total costs to respondents will be $12,929.

Respondents | No. of respondents | No. of responses per respondent | Average burden per response (in hrs) | Total burden (in hrs) ¹
STD clinic—study enrollees | 18,144 | 1 | 10/60 | 3,024
STD clinic staff | 12,600 | 1 | 5/60 | 1,050
Health Care Providers | 7,742 | 1 | 10/60 | 1,290
Total |  |  |  | 5,364
¹ Estimates are based on a 12-month data collection period.

Dated: March 15, 2001.
Nancy Cheal,
Acting Associate Director for Policy, Planning and Evaluation Centers for Disease Control and Prevention (CDC).

[FR Doc. 01-7080 Filed 3-21-01; 8:45 am]

BILLING CODE 4163-18-P